DEPARTMENT OF DEFENSE

Department of the Air Force

Intent To Grant an Exclusive License

SUMMARY: Pursuant to the provisions of Part 404 of Title 37, Code of Federal Regulations, the Department of the Air Force announces its intention to grant Conceptual MindWorks, Inc., a business entity of Texas, having a place of business at 9830 Colonnade Blvd. Suite 377, San Antonio, Texas 78230, an exclusive license in any right, title and interest the Air Force has in:

U.S. Patent No. 5,856,108 issued January 5, 1999, entitled “Biosynthesis of Diazomelanin and Diazoluminomelanin and Methods Thereof” by Johnathan L. Kiel et al., as well as other related know-how.

U.S. Patent No. 5,902,728 issued May 11, 1999, entitled “Diazodenitrification in Manufacture of Recombinant Bacterial Biosensors” by Jill E. Parker et al., as well as other related know-how.

FOR FURTHER INFORMATION CONTACT: A license for these patents and related know-how will be granted unless a written objection is filed within fifteen (15) days from the date of publication of this Notice. Please contact Christopher J. Menke, Attorney, Air Force Materiel Command Law Office, AFMCLO/JAZ, Building 11, Suite D18, 2240 B Street, Wright-Patterson AFB OH 45433-7109. Telephone: (937) 904-5031; Facsimile (937) 255-3733.

Bao-Anh Trinh,
Air Force Federal Register Liaison Officer.

[FR Doc. E8-27458 Filed 11-18-08; 8:45 am]

BILLING CODE 5001-05-P